DEPARTMENT OF AGRICULTURE

Advisory Committee on Beginning Farmers and Ranchers

AGENCY: Departmental Management, Office of Advocacy and Outreach, USDA.

ACTION: Notice of public meetings.

SUMMARY: The Office of Advocacy and Outreach is issuing this notice to advise the public that meetings of the Advisory Committee on Beginning Farmers and Ranchers (Committee) will be held to discuss and explore USDA policy options designed to create and sustain “New and Beginning Farmers and Ranchers.”

DATES: The public meetings will be held December 15th and 16th, 2010. Opportunities for public comment will be made available on December 15th, 2010, from 9 a.m. to 11:45 a.m., and 1 p.m. to 4 p.m. The second meeting will be held on December 16th, 2010, from 9 a.m. and end at 4 p.m. Requests to make oral statements should be received no later than 12 noon EDT on December 13th, 2010. For more information, see the SUPPLEMENTARY INFORMATION section.

ADDRESSES: All meetings will be located in Omni Shoreham Hotel, 2500 Calvert Street, NW., Washington, DC 20008. Attendance is open to all interested persons but limited to space available. Anyone wishing to make an oral statement should submit their request in writing (letter, fax, or e-mail) to Quinton N. Robinson, Designated Federal Official for the Advisory Committee on Beginning Farmers and Ranchers, Departmental Management, Office of Advocacy and Outreach, Department of Agriculture, 1400 Independence Avenue, SW., Room 520 Whitten, STOP, Washington, DC 20250-0522; fax (202) 720-205-5490; phone (202) 720-3058; e-mail Quinton.Robinson@dm.usda.gov.

FOR FURTHER INFORMATION CONTACT: Quinton N. Robinson at 202-720-3058.

SUPPLEMENTARY INFORMATION: Requests to make oral statements should be received no later than 12 noon EDT on December 13th, 2010. Requests should include the name and affiliation of the individual who will make the presentation and an outline of the issues to be addressed. The floor will be open to oral presentations beginning at 1 p.m. on December 15th, 2010. Comments will be limited to 5 minutes, and presenters will be approved on a first-come, first-served basis.

Section 5 of the Agriculture Credit Improvement Act of 1992 (Pub. L. 102-554) requires the Secretary of Agriculture to establish the New and Beginning Farmer and Rancher Advisory Committee for the purpose of advising the Secretary on: (1) The development of a program of coordinated financial assistance to qualified beginning farmers and ranchers required by Section 309(i) of the Consolidated Farm and Rural Development Act (this program consists of Federal and State beginning farmer programs that provide joint financing to beginning farmers and ranchers); (2) methods of maximizing the number of new farming and ranching opportunities created through the program; (3) methods of encouraging States to participate in the program; (4) the administration of the program; and (5) other methods of creating new farming or ranching opportunities.

USDA's Departmental Management's Office of Advocacy and Outreach is responsible for the performance and oversight of the New and Beginning Farmer and Rancher Advisory Committee pursuant to Section 14013 of the Food, Conservation, and Energy Act of 2008, Public Law 110-246.

If special accommodations are required, please contact Mr. Robinson at the address specified above, by COB December 3, 2010.

Signed in Washington, DC on November 19, 2010.
Pearlie S. Reed,
Assistant Secretary for Administration.

[FR Doc. 2010-29697 Filed 11-24-10; 8:45 am]

BILLING CODE 3410-90-P